DEPARTMENT OF HOUSING AND URBAN DEVELOPMENT

[Docket No. FR-5601-N-23]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Coast Guard: Commandant, United States Coast Guard, Attn: Jennifer Stomber, 2100 Second St. SW., Stop 7901, Washington, DC 20593-0001; (202) 475-5609; GSA: Mr. John E.B. Smith, General Services Administration, Office of Real Property Utilization and Disposal, 1800 F Street NW., Room 7040 Washington, DC 20405; Interior: Mr. Michael Wright, Acquisition & Property Management, Department of the Interior, 1801 Pennsylvania Ave. NW., 4th Floor, Washington, DC 20006: (202) 208-5399 Navy: Mr. Steve Matteo, Department of the Navy, Asset Management Division, Naval Facilities Engineering Command, Washington Navy Yard, 1330 Patterson Ave. SW., Suite 1000, Washington, DC 20374; (202)685-9426 (202)501-0084; (This is not a toll-free number).

Dated: June 7, 2012.
Ann Marie Oliva,
Deputy Assistant Secretary for Special Needs (Acting).

TITLE V, FEDERAL SURPLUS PROPERTY PROGRAM FEDERAL REGISTER REPORT FOR 06/15/2012

Suitable/Available Properties

Building

Arkansas

Sulphur Rock Radio Station

N. Main Street

Sulphur Rock AR 72579

Landholding Agency: GSA

Property Number: 54201220008

Status: Excess

GSA Number: 7-B-AR-576-AA

Comments: building #1: 152 sf.; building #2:59 sf; radio tower

New York

Housing Unit

154 Lighthouse Dr.

Saugerties NY 23477

Landholding Agency: Coast Guard

Property Number: 88201220002

Status: Unutilized

Comments: off-site removal only; 1,610 sf.; housing; exposed to extensive flooding; severe mold issues; extensive repairs needed; secured area; prior approval needed to access property

Land

Louisiana

Almonaster

4300 Almonaster Ave.

New Orleans LA 70126

Landholding Agency: GSA

Property Number: 54201110014

Status: Surplus

GSA Number: 7-D-LA-0576

Comments: 9.215 acres

Suitable/Unavailable Properties

Building

Arkansas

99 Shore Court Structure

99 Shore Court

Hot Springs AR 71901

Landholding Agency: GSA

Property Number: 54201140010

Status: Surplus

GSA Number: 7-I-AR-0415-13

Comments: off-site removal only; 1,845 sq. ft.; current use: residential

132 Clubb Street Structure

132 Clubb Street

Hot Springs AR 71901

Landholding Agency: GSA

Property Number: 54201140014

Status: Surplus

GSA Number: 7-I-AR-0415-14

Comments: off-site removal only; 1,090 sq. ft.; current use: residential

California

Defense Fuel Support Pt.

Estero Bay Facility

Morro Bay CA 93442

Landholding Agency: GSA

Property Number: 54200810001

Status: Surplus

GSA Number: 9-N-CA-1606

Comments: former 10-acre fuel tank farm w/associated bldgs/pipelines/equipment, possible asbestos/PCBs

District of Columbia

West Heating Plant

1051 29th St. NW

Washington DC 20007

Landholding Agency: GSA

Property Number: 54201140006

Status: Surplus

GSA Number: DC-497-1

Comments: REDETERMINATION: 1.97 acres; current use: industry; transferee is required to remediate significant contaminants which includes arsenic, PCBs, and benzo (a) pyrene

Idaho

Moscow Federal Bldg.

220 East 5th Street

Moscow ID 83843

Landholding Agency: GSA

Property Number: 54201140003

Status: Surplus

GSA Number: 9-G-ID-573

Comments: 11,000 sq. ft.; current use: office

Illinois

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified, most current use: unknown

Iowa

U.S. Army Reserve

620 West 5th St.

Garner IA 50438

Landholding Agency: GSA

Property Number: 54200920017

Status: Excess

GSA Number: 7-D-IA-0510

Comments: 5,743 sq. ft., presence of lead paint, most recent use—offices/classrooms/storage, subject to existing easements

Maine

Columbia Falls Radar Site

Tibbetstown Road

Columbia Falls ME 04623

Landholding Agency: GSA

Property Number: 54201140001

Status: Excess

GSA Number: 1-D-ME-0687

Directions: Buildings 1, 2, 3, and 4

Comments: Four bldgs. totaling 20,375 sq.ft. each one-story; current use: varies among properties

Maryland

Appraisers Store

null

Baltimore MD 21202

Landholding Agency: GSA

Property Number: 54201030016

Status: Excess

GSA Number: 4-G-MD-0623

Comments: Redetermination: 169,801 sq. ft., most recent use—federal offices, listed in the Nat'l Register of Historic Places, use restrictions

Michigan

CPT George S. Crabbe USARC

2901 Webber Street

Saginaw MI

Landholding Agency: GSA

Property Number: 54201030018

Status: Excess

GSA Number: 1-D-MI-835

Comments: 3,891 sq. ft., 3-bay garage maintenance building

Beaver Island High Level Site

South End Road

Beaver Island MI 49782

Landholding Agency: GSA

Property Number: 54201140002

Status: Excess

GSA Number: 1-X-MI-664B

Comments: 89 sq. ft; current use: storage; non-friable asbestos and lead base paint present; currently under license to the CCE Central Dispatch Authority

Minnesota

Border Patrol Station

1412 Hwy 11-17 W

Intern'l Falls MN 56649

Landholding Agency: GSA

Property Number: 54201210001

Status: Excess

GSA Number: 1-X-MN-0595-AA

Comments: 2,368 SQ. FT.; current use: office, garage, cold storage; possible asbestos and lead base paint

Missouri

Whiteman-Annex No.3

312 Northern Hill Rd.

Warrensburg MO 64093

Landholding Agency: GSA

Property Number: 54201210003

Status: Surplus

GSA Number: 7-D-MO-0694

Comments: 120 sq. ft.; current use: support bldg. for radio tower; previously reported by AF (18201020001)

Montana

Boulder Admin. Site

12 Depot Hill Rd.

Boulder MT 59632

Landholding Agency: GSA

Property Number: 54201130016

Status: Excess

GSA Number: 7-A-MT-532-AA

Comments: 4,799 sq. ft.; recent use: office, repairs are needed

New Jersey

Camp Petricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

North Carolina

Greenville Site

10000 Cherry Run Rd.

Greenville NC 27834

Landholding Agency: GSA

Property Number: 54201210002

Status: Unutilized

GSA Number: 4-2-NC-0753

Comments: 49,300 sq. ft.; current use: transmitter bldg.; possible PCB contamination; not available—existing Federal need

Ohio

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

Belmont Cty Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop

Army Reserve Center

5301 Hauserman Rd.

Parma OH 44130

Landholding Agency: GSA

Property Number: 54201020009

Status: Excess

GSA Number: I-D-OH-842

Comments: 29, 212, and 6,097 sq. ft.; most recent use: office, storage, classroom, and drill hall; water damage on 2nd floor; and wetland property

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition

Oregon

3 Bldgs/Land

OTHR-B Radar

Cty Rd 514

Christmas Valley OR 97641

Landholding Agency: GSA

Property Number: 54200840003

Status: Excess

GSA Number: 9-D-OR-0768

Comments: 14000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

Rhode Island

FDA Davisville Site

113 Bruce Boyer Street

North Kingstown RI 02852

Landholding Agency: GSA

Property Number: 54201130008

Status: Excess

GSA Number: 1-F-RI-0520

Comments: 4,100 sq. ft.; recent use: storage; property currently has no heating (all repairs is the responsibility of owner)

South Carolina

Naval Health Clinic

3600 Rivers Ave.

Charleston SC 29405

Landholding Agency: GSA

Property Number: 54201040013

Status: Excess

GSA Number: 4-N-SC-0606

Comments: Redetermination: 399,836 sq. ft., most recent use: office

South Dakota

Main House

Lady C Ranch Rd.

Hot Springs SD 57747

Landholding Agency: GSA

Property Number: 54201130011

Status: Surplus

GSA Number: 7-A-0523-3-AE

Comments: Off-site removal only; The property is a 2-story structure with 1,024 sq. ft. per floor for a total of 2,048 sq. ft.; structure type: Log Cabin; recent use: residential

Main Garage

Lady C Ranch Rd.

Hot Springs SD 57747

Landholding Agency: GSA

Property Number: 54201130012

Status: Surplus

GSA Number: 7_A-SD-0523-3-AF

Comments: Off-site removal only; 567 sq. ft.; structure type: Log Frame; recent use: vehicle storage

Metal Machine/Work Bldg.

Lady C Ranch Rd.

Hot Springs SD 57747

Landholding Agency: GSA

Property Number: 54201130013

Status: Surplus

GSA Number: 7-A-SD-0523-3-AG

Comments: Off-site removal only; 3,280 sq. ft.; structure type: Post/Pole w/Metal Siding; recent use: utility shed

Mobile Home

Lady C Ranch Rd.

Hot Springs SD 57477

Landholding Agency: GSA

Property Number: 54201130014

Status: Surplus

GSA Number: 7-A-0523-3-AH

Comments: Off-site removal only; 1,152 sq. ft.; structure type: manufactured home/double wide; recent use: residential

Mobile Home Garage

Lady C Ranch Rd.

Hot Springs SD 57747

Landholding Agency: GSA

Property Number: 54201130015

Status: Surplus

GSA Number: 7-A-SD-0523-3-AI

Comments: Off-site removal only; 729 sq. ft.; structure type: Post/Pole construction w/metal side; recent use: storage

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab

Texas

FAA RML Facility

11262 N. Houston Rosslyn Rd.

Houston TX 77086

Landholding Agency: GSA

Property Number: 54201110016

Status: Surplus

GSA Number: 7-U-TX-1129

Comments: 448 sq. ft., recent use: storage, asbestos has been identified in the floor

Virginia

Hampton Rds, Shore Patrol Bldg

811 East City Hall Ave

Norfolk VA 23510

Landholding Agency: GSA

Property Number: 54201120009

Status: Excess

GSA Number: 4-N-VA-758

Comments: 9,623 sq. ft.; current use: storage, residential

Wisconsin

Wausau Army Reserve Ctr.

1300 Sherman St.

Wausau WI 54401

Landholding Agency: GSA

Property Number: 54201210004

Status: Excess

GSA Number: 1-D-WI-610

Comments: bldg. 12,680 sq. ft.; garage 2,676 sq. ft.; current use: vacant; possible asbestos; remediation may be required; subjected to existing easements; Contact GSA for more detail

Land

Arizona

Land

95th Ave/Bethany Home Rd

Glendale AZ 85306

Landholding Agency: GSA

Property Number: 54201010014

Status: Surplus

GSA Number: 9-AZ-852

Comments: 0.29 acre, most recent use—irrigation canal

0.30 acre

Bethany Home Road

Glendale AZ 85306

Landholding Agency: GSA

Property Number: 54201030010

Status: Excess

GSA Number: 9-I-AZ-0859

Comments: 10 feet wide access road

California

Parcel F-2 Right of Way

null

Seal Beach CA 90740

Landholding Agency: GSA

Property Number: 54201030012

Status: Surplus

GSA Number: 9-N-CA-1508-AI

Comments: 6331.62 sq. ft., encroachment

Drill Site #3A

null

Ford City CA 93268

Landholding Agency: GSA

Property Number: 54201040004

Status: Surplus

GSA Number: 9-B-CA-1673-AG

Comments: 2.07 acres, mineral rights, utility easements

Drill Site #4

null

Ford City CA 93268

Landholding Agency: GSA

Property Number: 54201040005

Status: Surplus

GSA Number: 9-B-CA-1673-AB

Comments: 2.21 acres, mineral rights, utility easements

Drill Site #6

null

Ford City CA 93268

Landholding Agency: GSA

Property Number: 54201040006

Status: Surplus

GSA Number: 9-B-CA-1673-AC

Comments: 2.13 acres, mineral rights, utility easements

Drill Site #9

null

Ford City CA 93268

Landholding Agency: GSA

Property Number: 54201040007

Status: Surplus

GSA Number: 9-B-CA-1673-AH

Comments: 2.07 acres, mineral rights, utility easements

Drill Site #20

null

Ford City CA 93268

Landholding Agency: GSA

Property Number: 54201040008

Status: Surplus

GSA Number: 9-B-CA-1673-AD

Comments: 2.07 acres, mineral rights, utility easements

Drill Site #22

null

Ford City CA 93268

Landholding Agency: GSA

Property Number: 54201040009

Status: Surplus

GSA Number: 9-B-CA-1673-AF

Comments: 2.07 acres, mineral rights, utility easements

Drill Site #24

null

Ford City CA 93268

Landholding Agency: GSA

Property Number: 54201040010

Status: Surplus

GSA Number: 9-B-CA-1673-AE

Comments: 2.06 acres, mineral rights, utility easements

Drill Site #26

null

Ford City CA 93268

Landholding Agency: GSA

Property Number: 54201040011

Status: Surplus

GSA Number: 9-B-CA-1673-AA

Comments: 2.07 acres, mineral rights, utility easements

Seal Beach RR Right of Way

West 19th Street

Seal Beach CA 90740

Landholding Agency: GSA

Property Number: 54201140015

Status: Surplus

GSA Number: 9-N-CA-1508-AF

Comments: 8,036.82 sq. ft.; current use: vacant lot

Seal Beach RR Right of Way

East 17th Street

Seal Beach CA 90740

Landholding Agency: GSA

Property Number: 54201140016

Status: Surplus

GSA Number: 9-N-CA-1508-AB

Comments: 9,713.88 sq. ft.; current use: private home

Seal Beach RR Right of Way

East of 16th Street

Seal Beach CA 90740

Landholding Agency: GSA

Property Number: 54201140017

Status: Surplus

GSA Number: 9-N-CA-1508-AG

Comments: 6,834.56 sq. ft.; current use: vacant

Seal Beach RR Right of Way

West of Seal Beach Blvd.

Seal Beach CA 90740

Landholding Agency: GSA

Property Number: 54201140018

Status: Surplus

GSA Number: 9-N-CA-1508-AA

Comments: 10,493.60 sq. ft.; current use: vacant lot

Colorado

Common Pt. Shooting Rng.

Bureau of Reclamation

Drake CO 80515

Landholding Agency: GSA

Property Number: 54201120003

Status: Excess

GSA Number: 7-1-CO-0678

Comments: 35.88 acres; If the purchaser ceases using the property as a firing range they will be held to a higher standard of lead remediation by the local and Federal environmental protection agencies.

Massachusetts

FAA Site

Massasoit Bridge Rd.

Nantucket MA 02554

Landholding Agency: GSA

Property Number: 54200830026

Status: Surplus

GSA Number: MA-0895

Comments: approx 92 acres, entire parcel within MA Division of Fisheries & Wildlife Natural Heritage & Endangered Species Program

Nevada

RBG Water Project Site

Bureau of Reclamation

Henderson NV 89011

Landholding Agency: GSA

Property Number: 54201140004

Status: Surplus

GSA Number: 9-I-AZ-0562

Comments: water easement (will not affect conveyance); 22+/−acres; current use: water sludge disposal site; lead from shotgun shells on <1 acre

North Dakota

Vacant Land of MSR Site

Stanley Mickelsen

Nekoma ND

Landholding Agency: GSA

Property Number: 54201130009

Status: Surplus

GSA Number: 7-D-ND-0499

Comments: 20.2 acres; recent use: unknown

Pennsylvania

Approx. 16.88

271 Sterrettania Rd.

Erie PA 16506

Landholding Agency: GSA

Property Number: 54200820011

Status: Surplus

GSA Number: 4-D-PA-0810

Comments: Vacant land

Marienville Lot

USDA Forest Service

Marienville PA

Landholding Agency: GSA

Property Number: 54201140005

Status: Excess

GSA Number: 4-A-PA-807AD

Comments: 2.42 acres; current use: unknown

South Carolina

Marine Corps Air Station

3481 TRASK Parkway

Beaufort SC 29904

Landholding Agency: GSA

Property Number: 54201140009

Status: Excess

GSA Number: 4-N-SC-0608AA

Comments: 18,987.60 sq. ft. (.44 acres); physical features: swamp, periodic flooding, 5 ft. off main road

Texas

Parcel 2

Camp Bowie

Brownwood TX 76801

Landholding Agency: GSA

Property Number: 54201130001

Status: Surplus

GSA Number: 7-D-TX-0589

Comments: 22.58 acres, two storage units on land approx. 600 sq. ft., recent use: storage, legal constraints: access easement, 10% of property in floodway

Unsuitable Properties

Building

California

2 Buildings

Naval Base Ventura Co.

Point Mugu CA 93042

Landholding Agency: Navy

Property Number: 77201220010

Status: Unutilized

Directions: PM 7-39 & PM 89

Comments: Located w/in a controlled perimeter of a DoD installation; public access denied & no alternative method to gain access w/out comprising nat'l security

Reasons: Secured Area

New Jersey

Stoll House

Delaware Water Gap Nat'l Rec. Area

Walpack NJ 07881

Landholding Agency: Interior

Property Number: 61201220007

Status: Excess

Directions: Including dormitory/sheds

Comments: Collapsed roofs; damage to exterior walls; structural/foundation damage; extensive water damage; off-site removal in not feasible b/c any movement will result in complete collapse

Reasons: Extensive deterioration

Land

Hawaii

Site 3

Marine Corps Base

Kaneohe HI

Landholding Agency: Navy

Property Number: 77201220011

Status: Underutilized

Comments: Access restricted to authorized military personnel only; public access denied & no alternative method to gain access w/out comprising nat'l security

Reasons: Secured Area

[FR Doc. 2012-14272 Filed 6-14-12; 8:45 am]

BILLING CODE 4210-67-P